DEPARTMENT OF COMMERCE

National Oceanic and Atmospheric Administration

Proposed Information Collection; Comment Request; Sea Grant Program Application Requirements for Grants, for Sea Grant Fellowships, and for Designation as a Sea Grant College or Sea Grant Institute

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 23, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Dorn Carlson, 301-734-1080 or dorn.carlson@noaa.gov.

SUPPLEMENTARY INFORMATION:

I. Abstract

This request is for a renewal of a currently approved information collection.

The objectives of the National Sea Grant College Program, as stated in the Sea Grant legislation (33 U.S.C. 1121-1131) are to increase the understanding, assessments, development, utilization, and conservation of the Nation's ocean, coastal, and Great Lakes resources. It accomplishes these objectives by conducting research, education, and outreach programs.

Grant monies are available for funding activities that help obtain the objectives of the Sea Grant Program. Both single and multi-project grants are awarded, with the latter representing about 80 percent of the total grant program. In addition to other standard grant application requirements, three forms are required with the grants. These are the Sea Grant Control Form 90-2, used to identify the organizations and personnel who would be involved in the grant; the Project Record Form 90-1, which collects summary data on projects; and the Sea Grant Budget Form 90-4, which provides information similar to, but more detailed than on, forms SF-424A or SF-424C.

The National Sea Grant College Program Act (33 U.S.C. 1126) provides for the designation of a public or private institution of higher education, institute, laboratory, or State or local agency as a Sea Grant college or Sea Grant institute. Applications are required for designation of Sea Grant Colleges and Sea Grant Institutes.

II. Method of Collection

Responses are made in a variety of formats, including forms and narrative submissions, via mail, fax or e-mail. The Sea Grant Project Record Form and Sea Grant Budget Form must be submitted in electronic format through grants.gov if the grant applicant has the means to do so.

III. Data

OMB Control Number: 0648-0362.

Form Number: NOAA Forms 90-1, 90-2 and 90-4.

Type of Review: Regular submission (renewal of a current information collection).

Affected Public: Not-for-profit institutions; business or other for-profit organizations; individuals or households; State, Local or Tribal Government.

Estimated Number of Respondents: 768.

Estimated Time per Response: 30 minutes for a Sea Grant Control form; 20 minutes for a Project Record Form; 15 minutes for a Sea Grant Budget form; and 20 hours for an application for designation as a Sea Grant college or Sea Grant institute.

Estimated Total Annual Burden Hours: 857.

Estimated Total Annual Cost to Public: $1,833.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 21, 2011.
Gwellnar Banks,
Management Analyst, Office of the Chief Information Officer.

[FR Doc. 2011-6944 Filed 3-23-11; 8:45 am]

BILLING CODE 3510-KA-P